FEDERAL HOUSING FINANCE AGENCY

[No. 2014-N-03]

Privacy Act of 1974; System of Records

AGENCY: Federal Housing Finance Agency.

ACTION: Notice of revision to an existing system of records; Request for comments.

SUMMARY: In accordance with the requirements of the Privacy Act of 1974, as amended, 5 U.S.C. 552a (Privacy Act), the Federal Housing Finance Agency (FHFA) gives notice of and requests comments on revisions to an existing system of records. The proposed revisions are to the system of records entitled “National Mortgage Database Project” (FHFA-21). The system of records covers the National Mortgage Database and the National Survey of Mortgage Borrowers.

DATES: To be assured of consideration, comments must be received on or before May 16, 2014. The revisions to the existing system will become effective on May 27, 2014 unless comments necessitate otherwise. FHFA will publish a new notice if, in order to review comments, the effective date is delayed or if changes are made based on comments received.

ADDRESSES: Submit comments, identified by “2014-N-03,” using only one of the following methods:

• Email: Comments to Alfred M. Pollard, General Counsel, may be sent by email to RegComments@fhfa.gov. Please include “2014-N-03” in the subject line of the message.

• Federal eRulemaking Portal: http://www.regulations.gov. Follow the instructions for submitting comments. If you submit your comment to the Federal eRulemaking Portal, please also send it by email to FHFA at RegComments@fhfa.gov to ensure timely receipt by FHFA. Please include “2014-N-03” in the subject line of the message.

• U.S. Mail, United Parcel Service, Federal Express, or Other Mail Service: The mailing address for comments is: Alfred M. Pollard, General Counsel, Attention: Comments/2014-N-03, Federal Housing Finance Agency, 400 Seventh Street SW., Washington, DC 20024. Please note that all mail sent to FHFA via the U.S. Postal Service is routed through a national irradiation facility, a process that may delay delivery by approximately two weeks. For any time-sensitive correspondence, please plan accordingly.

• Hand Delivered/Courier: The hand delivery address is: Alfred M. Pollard, General Counsel, Attention: Comments/2014-N-03, Federal Housing Finance Agency, 400 Seventh Street SW., Washington, DC 20024. To ensure timely receipt of hand delivered package, please ensure that the package is delivered to the Seventh Street entrance Guard Desk, First Floor, on business days between 9 a.m. to 5 p.m.

See SUPPLEMENTARY INFORMATION for additional information on submission and posting of comments.

FOR FURTHER INFORMATION CONTACT: Forrest Pafenberg, Program Manager, National Mortgage Database Project, Forrest.Pafenberg@fhfa.gov or (202) 649-3129; Stacy Easter, Privacy Act Officer, privacy@fhfa.gov or (202) 649-3803; or David A. Lee, Senior Agency Official for Privacy, privacy@fhfa.gov or (202) 649-3803 (not toll-free numbers), Federal Housing Finance Agency, Eighth Floor, 400 Seventh Street SW., Washington, DC 20024. The telephone number for the Telecommunications Device for the Deaf is 800-877-8339.

SUPPLEMENTARY INFORMATION:

I. Comments

FHFA seeks public comments on the revised system of records, and will take all comments into consideration. See 5 U.S.C. 552a(e)(4) and (11). In addition to referencing “Comments/2014-N-03,” please reference “National Mortgage Database Project” (FHFA-21).

All comments received will be posted without change on the FHFA Web site at http://www.fhfa.gov, and will include any personal information provided, such as name, address (mailing and email), and telephone numbers. In addition, copies of all comments received will be available without change for public inspection on business days between the hours of 10 a.m. and 3 p.m., at the Federal Housing Finance Agency, 400 Seventh Street SW., Washington, DC 20024. To make an appointment to inspect comments, please call the Office of General Counsel at (202) 649-3804.

II. Introduction

This notice satisfies the Privacy Act requirement that an agency publish a system of records notice in the Federal Register when there is an addition or change to the agency's systems of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. The Director of FHFA has determined that records and information in this system of records are not exempt from the requirements of the Privacy Act.

As required by the Privacy Act, 5 U.S.C. 552a(r), and pursuant to paragraph 4c of Appendix I to OMB Circular No. A-130, “Federal Agency Responsibilities for Maintaining Records About Individuals,” dated February 8, 1996 (61 FR 6427, 6435 February 20, 1996), FHFA has submitted a report describing the system of records covered by this notice to the Committee on Oversight and Government Reform of the House of Representatives, the Committee on Homeland Security and Governmental Affairs of the Senate, and the Office of Management and Budget.

III. Revised System of Records

The revised system of records, “National Mortgage Database Project” (FHFA-21), will contain records related to loan-level information on first lien single-family mortgages in existence at any point in time from January 1998 to the present (and continuing on into the future). It is designed to be a nationally representative random sample (1-in-20) rather than a universal registry. The National Mortgage Database Project will be built from representative credit repository data and data from other administrative data sources, including the National Survey of Mortgage Borrowers.

The revised system of records notice is set out in its entirety and described in detail below. The revisions expand the category of records that will be collected, maintained, and stored in the system as well as make minor clarifications and editorial changes.

FHFA-21

SYSTEM NAME:

National Mortgage Database Project.

SECURITY CLASSIFICATION:

Sensitive but unclassified.

SYSTEM LOCATION:

Federal Housing Finance Agency, 400 Seventh Street SW., Washington, DC 20024, and Experian Information Solutions Inc., 475 Anton Blvd., Costa Mesa, CA 92626.

CATEGORIES OF INDIVIDUALS COVERED BY THE SYSTEM:

Individuals who have records in one or more credit bureaus or consumer reporting agencies.

CATEGORIES OF RECORDS IN THE SYSTEM:

Records include loan-level data in five dimensions: Mortgage record, real estate transaction, household demographic data on the borrower, physical characteristics of the house and neighborhood, and performance data on the mortgage and all credit lines (i.e. credit cards, student loans, auto loans, and other loans reported to credit bureaus) of the mortgage borrower and all those associated with the mortgage. Records in the system may include without limitation: (1) Borrower/co-borrower information (name, address, zip code, telephone numbers, date of birth, race/ethnicity, gender, language, religion, social security number, education records, military status/records, employment status/records); (2) Financial Information (account number, financial events in the last few years, life events in the last few years, other assets/wealth); (3) Mortgage Information (current balance, current monthly payment, delinquency grid, monthly payment, refinanced amount, bankruptcy information); (4) Credit card/other loan information (account type, credit amount, account balance amount, account past due amount, account minimum payment amount, account actual payment amount, account high balance amount, account charge off amount, second mortgage); (5) Household composition (single male, single female, etc., presence of children by various age categories, number of wage earners in household, household income, credit score(s) of borrower/co-borrower at origination (Vantage Score), deceased indicator, marital status); (6) Property Attributes (property type, number of bedrooms and bathrooms, square footage, lot size, year built/age of structure, units in structure, most recent assessed value (per tax roll), year of most recent assessed value, effective age of structure, assessor's parcel number, neighborhood name, and project name); (7) Real Estate Transaction Attributes (sales price, down payment, occupancy status (own, rent), new versus existing home, county, census tract/block, latitude/longitude and date purchased); (8) Mortgage Characteristics Attributes (mortgage product and purpose, origination date, acquisition date, amount of mortgage, refinanced amount, amount of down payment, term of mortgage, interest rate of mortgage, source of mortgage/mortgage channel, mortgage insurance type, loan to value at origination, origination amount/credit limit, originator, current servicer, debt to income ratio at origination, number of borrowers, number of units in mortgage, presence of prepayment penalty, origination points paid by borrower, discount points paid by borrower, balloon payment date/amount, percent of down payment, secondary market indicator); and (9) information collected from consumers as part of surveys, randomized controlled trials, or through other mechanisms.

AUTHORITY FOR MAINTENANCE OF THE SYSTEM:

12 U.S.C. 4511, 4513, 4543, and section 1324 of the Federal Housing Enterprises Financial Safety and Soundness Act as amended by section 1125 of the Housing and Economic Recovery Act of 2008 (HERA) (12 U.S.C. 4544 and 4544(c)).

PURPOSE(S):

The records in this system of records are collected and maintained in order to facilitate mandatory reporting under HERA as well as to conduct research, performance modeling, and examination monitoring. In most cases, records will not contain personal identifiers. Records with personal identifiers will be used solely for purposes of matching the records with other datasets, which will better enable FHFA to perform the statutory functions identified above. After the matching is complete, a de-identified copy of the matched dataset will be used for conducting research and analysis. FHFA will use the personal identifiers after the matching only for the purpose of performing similar matches on future data acquisitions.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Where there is an indication of a violation or potential violation of law, whether civil, criminal or regulatory in nature, and whether arising by general statute or particular program statute, or by regulation, rule or order issued pursuant thereto, the relevant records in the system of records may be referred, as a routine use, to the appropriate agency, whether federal, state, local, tribal, foreign or a financial regulatory organization, including the Financial Crimes Enforcement Network and other law enforcement and government entities, as determined by FHFA to be appropriate and that are charged with the responsibility of investigating or prosecuting such violation or charged with enforcing or implementing a statute, or rule, regulation or order issued pursuant thereto.

(3) To any individual during the course of any inquiry or investigation conducted by FHFA, or in connection with civil litigation, if FHFA has reason to believe that the individual to whom the record is disclosed may have further information about the matters related therein, and those matters appeared to be relevant at the time to the subject matter of the inquiry.

(4) To any individual with whom FHFA contracts to reproduce, by typing, photocopy or other means, any record within this system for use by FHFA and its employees in connection with their official duties or to any individual who is utilized by FHFA to perform clerical or stenographic functions relating to the official business of FHFA.

(5) To members of advisory committees that are created by FHFA or by Congress to render advice and recommendations to FHFA or to Congress, to be used solely in connection with their official, designated functions.

(6) To a Congressional office from the record of an individual in response to an inquiry from the Congressional office made at the request of that individual.

(7) To contractor personnel, grantees, volunteers, interns, and others performing or working on a contract, service, grant, cooperative agreement, or project for FHFA.

(8) To a court, magistrate, or administrative tribunal in the course of presenting evidence, including disclosures to opposing counsel or witnesses in the course of civil discovery, litigation, or settlement negotiations, or in connection with criminal law proceedings, or in response to a subpoena from a court of competent jurisdiction.

(9) To the Office of Management and Budget, Department of Justice (DOJ), Department of Labor, Office of Personnel Management, Equal Employment Opportunity Commission, Office of Special Counsel, Department of Homeland Security, or other Federal agencies to obtain advice regarding statutory, regulatory, policy, and other requirements related to the purpose for which FHFA collected the records.

(10) To DOJ, (including United States Attorney Offices), or other Federal agencies conducting litigation or in proceedings before any court, adjudicative or administrative body, when it is necessary to the litigation and one of the following is a party to the litigation or has an interest in such litigation:

1. FHFA;

2. Any employee of FHFA in his/her official capacity;

3. Any employee of FHFA in his/her individual capacity where DOJ or FHFA has agreed to represent the employee; or

4. The United States or any agency thereof, is a party to the litigation or has an interest in such litigation, and FHFA determines that the records are both relevant and necessary to the litigation and the use of such records is compatible with the purpose for which FHFA collected the records.

(11) To the National Archives and Records Administration or other Federal agencies pursuant to records management inspections being conducted under the authority of 44 U.S.C. 2904 and 2906.

(12) To a Federal agency, organization, or individual for the purpose of performing audit or oversight operations as authorized by law, but only such information as is necessary and relevant to such audit or oversight function.

(13) To a regulated entity.

(14) With the Consumer Finance Protection Bureau in order to facilitate reporting under the Dodd-Frank Wall Street Reform and Consumer Protection Act (Pub. L. 111-203), as well as to conduct research, performance modeling, and examination monitoring.

DISCLOSURE TO CONSUMER REPORTING AGENCIES:

None.

POLICIES AND PRACTICE FOR STORING, RETRIEVING, ACCESSING, RETAINING AND DISPOSING OF RECORDS IN THE SYSTEM:

STORAGE:

Records are maintained in electronic format, paper form, and magnetic disk or tape. Electronic records are stored in computerized databases. Paper and magnetic disk, or tape records are stored in locked file rooms, locked file cabinets, or locked safes.

RETRIEVABILITY:

Records may be retrieved by a database-specific constructed loan identifier or encrypted personal identification number.

SAFEGUARDS:

Records are safeguarded in a secured environment. Buildings where records are stored have security cameras and 24-hour security guard service. Computerized records are safeguarded through use of access codes and other information technology security measures. Paper records are safeguarded by locked file rooms, locked file cabinets, or locked safes. Access to the records is restricted to those individuals who require access to the records in the performance of official duties related to the purposes for which the system is maintained.

RETENTION AND DISPOSAL:

Records are maintained in accordance with National Archives and Records Administration and FHFA retention schedules. Records are disposed of according to accepted techniques.

SYSTEM MANAGER(S) AND ADDRESS:

Project Manager, National Mortgage Database Project, Federal Housing Finance Agency, 400 Seventh Street SW., Washington, DC 20024.

NOTIFICATION PROCEDURES:

Direct inquiries as to whether this system contains a record pertaining to an individual to the Privacy Act Officer. Inquiries may be mailed to the Privacy Act Officer, Federal Housing Finance Agency, 400 Seventh Street SW., Washington, DC 20024, or can be submitted electronically at http://www.fhfa.gov/Default.aspx?Page=236 in accordance with the procedures set forth in 12 CFR part 1204.

RECORD ACCESS PROCEDURES:

Direct requests for access to the Privacy Act Officer. Requests may be mailed to the Privacy Act Officer, Federal Housing Finance Agency, 400 Seventh Street SW., Washington, DC 20024, or can be submitted electronically at http://www.fhfa.gov/Default.aspx?Page=236 in accordance with the procedures set forth in 12 CFR part 1204.

CONTESTING RECORD PROCEDURES:

Direct requests to contest or appeal an adverse decision for a record to the Privacy Act Appeals Officer. Requests may be mailed to the Privacy Act Appeals Officer, Federal Housing Finance Agency, 400 Seventh Street SW., Washington, DC 20024, or can be submitted electronically at http://www.fhfa.gov/Default.aspx?Page=236 in accordance with the procedures set forth in 12 CFR part 1204.

RECORD SOURCE CATEGORIES:

The information is obtained from individuals who respond to the National Survey of Mortgage Borrowers, credit repository files, other FHFA systems of records, other Federal government systems of records, commercial data aggregators, or other commercial entities.

EXEMPTIONS CLAIMED FOR THE SYSTEM:

None.

Dated: April 7, 2014.
Melvin L. Watt,
Director, Federal Housing Finance Agency.

[FR Doc. 2014-08566 Filed 4-15-14; 8:45 am]

BILLING CODE 8070-01-P